DEPARTMENT OF DEFENSE

Office of the Secretary

[No. DoD-2007-OS-0094]

Proposed Collection; Comment Request

AGENCY: Defense Contract Management Agency, DoD.

ACTION: Notice.

In compliance with section 3506(c)(2)(A) of the Paperwork Reduction Act of 1995, the Defense Contract Management Agency announces the proposed extension of a public information collection and seeks public comment on the provisions thereof. Comments are invited on: (a) Whether the proposed collection of information is necessary for the proper performance of the functions of the agency, including whether the information shall have practical utility; (b) the accuracy of the agency's estimate of the burden of the proposed information collection; (c) ways to enhance the quality, utility, and clarity of the information to be collected; and (d) ways to minimize the burden of the information collection on respondents, including through the use of automated collection techniques or other forms of information technology.

DATES: Consideration will be given to all comments received by October 26, 2007.

ADDRESSES: You may submit comments, identified by docket number and title, by any of the following methods:

• Federal eRulemaking Portal: http://www.regulations.gov. Follow the instructions for submitting comments.

• Mail: Federal Docket Management System Office, 1160 Defense Pentagon, Washington, DC 20301-1160.

Instructions: All submissions received must include the agency name, docket number and title for this Federal Register document. The general policy for comments and other submissions from members of the public is to make these submissions available for public viewing on the Internet at http://www.regulations.gov as they are received without change, including any personal identifiers or contact information.

FOR FURTHER INFORMATION CONTACT: To request more information on this proposed information collection or to obtain a copy of the proposal and associated collection instruments, please write to the Director, Defense Contract Management Agency, Attn: Gary Moorman, 6350 Walker Lane, Suite 300 Alexandria, VA 22310, or call Mr. Gary Moorman at 703-254-2134.

Title; Associated Form; and OMB Number: Request for Government Approval for Aircrew Qualifications and Training, DD Form 2627 and Request for Approval of Contractor Flight Crewmember, DD Form 2628; OMB Control Number 0704-0347.

Needs and Uses: The information collection requirement is necessary to request qualification training for contractor crewmembers. The DD Form 2628 requests approval for contractor personnel to function as a flight crewmember.

Affected Public: Individuals; business or other for profit; not-for-profit institutions; state, local or tribal government.

Annual Burden Hours: 7.

Number of Respondents: 42.

Responses Per Respondent: 2.

Average Burden Per Response: 5 minutes.

Frequency: On occasion.

Supplementary Information:

Summary of Information Collection

The requirement to have government approval of contract flight crewmembers is in Defense Contract Management Agency Directive 1, Chapter 8, Contractor's Flight and Ground Operations. The contractor provides a personal history and requests the government approve training in a particular type government aircraft (DD Form 2627). The contractor certifies the crewmember has passed a flight evaluation and, with the DD Form 2628, requests approval for the personnel to operate and fly government aircraft. Without the approvals, the contractor cannot use their personnel as requested.

Dated: August 21, 2007.
Patricia L. Toppings,
Alternate OSD Federal Register Liaison Officer, Department of Defense.

[FR Doc. 07-4183 Filed 8-24-07; 8:45 am]

BILLING CODE 5001-06-M